ENVIRONMENTAL PROTECTION AGENCY

40 CFR Ch. I

[FRL 9924-87-OP]

Spring 2015 Regulatory Agenda

AGENCY: Environmental Protection Agency.

ACTION: Semiannual regulatory flexibility agenda and semiannual regulatory agenda.

SUMMARY: The Environmental Protection Agency (EPA) publishes the semiannual regulatory agenda online (the e-Agenda) at http://www.reginfo.gov and at www.regulations.gov to update the public about:

• Regulations currently under development,

• Reviews of existing regulations, and

• Rules completed or canceled since the last agenda.

Definitions

“E-Agenda,” “online regulatory agenda,” and “semiannual regulatory agenda” all refer to the same comprehensive collection of information that, until 2007, was published in the Federal Register but now is only available through an online database.

“Regulatory Flexibility Agenda” refers to a document that contains information about regulations that may have a significant impact on a substantial number of small entities. We continue to publish it in the Federal Register because it is required by the Regulatory Flexibility Act of 1980.

“Unified Regulatory Agenda” refers to the collection of all agencies' agendas with an introduction prepared by the Regulatory Information Service Center facilitated by the General Services Administration.

“Regulatory Agenda Preamble” refers to the document you are reading now. It appears as part of the Regulatory Flexibility Agenda and introduces both the Regulatory Flexibility Agenda and the e-Agenda.

“Regulatory Development and Retrospective Review Tracker” refers to an online portal to EPA's priority rules and retrospective reviews of existing regulations. More information about the Regulatory Development and Retrospective Review Tracker appears in section H of this preamble.

FOR FURTHER INFORMATION CONTACT: If you have questions or comments about a particular action, please get in touch with the agency contact listed in each agenda entry. If you have general questions about the semiannual regulatory agenda, please contact: Caryn Muellerleile (muellerleile.caryn@epa.gov; 202-564-2855).

Table of Contents

A. Links to EPA's Regulatory Information

B. What key statutes and executive orders guide EPA's rule and policymaking process?

C. How can you be involved in EPA's rule and policymaking process?

D. What actions are included in the E-Agenda and the Regulatory Agenda?

E. How is the E-Agenda organized?

F. What information is in the Regulatory Flexibility Agenda and the E-Agenda?

G. How can you find out about rulemakings that start up after the Regulatory Agenda is signed?

H. What tools are available for mining Regulatory Agenda data and for finding more about EPA rules and policies?

I. Reviews of Rules With Significant Impacts on a Substantial Number of Small Entities

J. What other special attention does EPA give to the impacts of rules on small businesses, small governments, and small nonprofit organizations?

K. Thank You for Collaborating With Us

SUPPLEMENTARY INFORMATION:

A. Links to EPA's Regulatory Information

• Semiannual Regulatory Agenda: www.reginfo.gov and www.regulations.gov

• Semiannual Regulatory Flexibility Agenda: http://www.gpo.gov/fdsys/search/home.action

• Regulatory Development and Retrospective Review Tracker: www.epa.gov/regdarrt

B. What key statutes and executive orders guide EPA's rule and policymaking process?

A number of environmental laws authorize EPA's actions, including but not limited to:

• Clean Air Act (CAA),

• Clean Water Act (CWA),

• Comprehensive Environmental Response, Compensation and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

Not only must EPA comply with environmental laws, but also administrative legal requirements that apply to the issuance of regulations, such as: the Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 12866, “Regulatory Planning and Review” (58 FR 51735, Oct. 4, 1993), as supplemented by Executive Order 13563, “Improving Regulation and Regulatory Review” (76 FR 3821, Jan. 21, 2011); 12898, “Environmental Justice” (59 FR 7629, Feb. 16, 1994); 13045, “Children's Health Protection” (62 FR 19885, Apr. 23, 1997); 13132, “Federalism” (64 FR 43255, Aug. 10, 1999); 13175, “Consultation and Coordination with Indian Tribal Governments” (65 FR 67249, Nov. 9, 2000); 13211, “Actions Concerning Regulations That Significantly Affect Energy Supply, Distribution, or Use” (66 FR 28355, May 22, 2001).

In addition to meeting its mission goals and priorities as described above, EPA continues to review its existing regulations under Executive Order (E.O.) 13563, “Improving Regulation and Regulatory Review.” This E.O. provides for periodic retrospective review of existing significant regulations and is intended to determine whether any such regulations should be modified, streamlined, expanded, or repealed, to make the Agency's regulatory program more effective or less burdensome in achieving the regulatory objectives.

C. How can you be involved in EPA's rule and policymaking process?

You can make your voice heard by getting in touch with the contact person provided in each agenda entry. EPA encourages you to participate as early in the process as possible. You may also participate by commenting on proposed rules published in the Federal Register (FR).

Instructions on how to submit your comments are provided in each Notice of Proposed Rulemaking (NPRM). To be most effective, comments should contain information and data that support your position, and you also should explain why EPA should incorporate your suggestion in the rule or other type of action. You can be particularly helpful and persuasive if you provide examples to illustrate your concerns and offer specific alternatives.

EPA believes its actions will be more cost effective and protective if the development process includes stakeholders working with us to help identify the most practical and effective solutions to problems. EPA encourages you to become involved in its rule and policymaking process. For more information about public involvement in EPA activities, please visit www.epa.gov/open.

D. What actions are included in the E-Agenda and the Regulatory Flexibility Agenda?

EPA includes regulations in the e-Agenda. However, there is no legal significance to the omission of an item from the agenda, and EPA generally does not include the following categories of actions:

• Administrative actions such as delegations of authority, changes of address, or phone numbers;

• Under the CAA: Revisions to state implementation plans; equivalent methods for ambient air quality monitoring; deletions from the new source performance standards source categories list; delegations of authority to states; area designations for air quality planning purposes;

• Under FIFRA: Registration-related decisions, actions affecting the status of currently registered pesticides, and data call-ins;

• Under the Federal Food, Drug, and Cosmetic Act: Actions regarding pesticide tolerances and food additive regulations;

• Under RCRA: Authorization of State solid waste management plans; hazardous waste delisting petitions;

• Under the CWA: State Water Quality Standards; deletions from the section 307(a) list of toxic pollutants; suspensions of toxic testing requirements under the National Pollutant Discharge Elimination System (NPDES); delegations of NPDES authority to States;

• Under SDWA: Actions on State underground injection control programs.

The Regulatory Flexibility Agenda includes:

• Actions likely to have a significant economic impact on a substantial number of small entities.

• Rules the Agency has identified for periodic review under section 610 of the RFA.

EPA has no reviews under section 610 of the RFA at this time.

E. How is the E-Agenda organized?

You can choose how to organize the agenda entries online by specifying the characteristics of the entries of interest in the desired individual data fields for both the www.reginfo.gov and www.regulations.gov versions of the e-Agenda. You can sort based on the following characteristics: EPA subagency; stage of rulemaking, which is explained below; alphabetically by title; and by the Regulation Identifier Number (RIN), which is assigned sequentially when an action is added to the agenda.

Each entry in the Agenda is associated with one of five rulemaking stages. The rulemaking stages are:

1. Prerule Stage—This section includes EPA actions generally intended to determine whether the agency should initiate rulemaking. Prerulemakings may include anything that influences or leads to rulemaking, such as Advance Notices of Proposed Rulemaking (ANPRMs), studies or analyses of the possible need for regulatory action.

2. Proposed Rule Stage—This section includes EPA rulemaking actions that are within a year of proposal (publication of Notices of Proposed Rulemakings [NPRMs]).

3. Final Rule Stage—This section includes rules that will be issued as a final rule within a year.

4. Long-Term Actions—This section includes rulemakings for which the next scheduled regulatory action is after May 2016. We urge you to explore becoming involved even if an action is listed in the Long-Term category. By the time an action is listed in the Proposed Rules category, you may have missed the opportunity to participate in certain public meetings or policy dialogues.

5. Completed Actions—This section contains actions that have been promulgated and published in the Federal Register since publication of the fall 2014 Agenda. It also includes actions that EPA is no longer considering and has elected to “withdraw.” EPA also announces the results of any RFA section 610 review in this section of the agenda.

F. What information is in the Regulatory Flexibility Agenda and the E-Agenda?

The Regulatory Flexibility Agenda entries include only the nine categories of information that are required by the Regulatory Flexibility Act of 1980 and by Federal Register Agenda printing requirements: Sequence Number, RIN, Title, Description, Statutory Authority, Section 610 Review (if applicable), Regulatory Flexibility Analysis Required, Schedule and Contact Person. Note that the electronic version of the Agenda (E-agenda) has more extensive information on each of these actions.

E-Agenda entries include:

Title: A brief description of the subject of the regulation. The notation “Section 610 Review” follows the title if we are reviewing the rule as part of our periodic review of existing rules under section 610 of the RFA (5 U.S.C. 610).

Priority: Entries are placed into one of five categories described below.

a. Economically Significant: Under Executive Order 12866, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency;

2. Materially alter the budgetary impact of entitlements, grants, user fees, or loan programs, or the rights and obligations of recipients; or

3. Raise novel legal or policy issues arising out of legal mandates, the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations (e.g., certain State Implementation Plans, National Priority List updates, Significant New Use Rules, State Hazardous Waste Management Program actions, and Tolerance Exemptions). If an action that would normally be classified Routine and Frequent is reviewed by the Office of Management and Budget under EO 12866, then we would classify the action as either “Economically Significant” or “Other Significant.”

e. Informational/Administrative/Other: An action that is primarily informational or pertains to an action outside the scope of EO 12866.

Major: a rule is “major” under 5 U.S.C. 801 (Pub. L. 104-121) if it has resulted or is likely to result in an annual effect on the economy of $100 million or more or meets other criteria specified in that Act.

Unfunded Mandates: whether the rule is covered by section 202 of the Unfunded Mandates Reform Act of 1995 (Pub. L. 104-4). The Act requires that, before issuing an NPRM likely to result in a mandate that may result in expenditures by State, local, and tribal governments, in the aggregate, or by the private sector of more than $100 million in 1 year.

Legal Authority: The sections of the United States Code (U.S.C.), Public Law (Pub. L.), Executive Order (EO), or common name of the law that authorizes the regulatory action.

CFR Citation: The sections of the Code of Federal Regulations that would be affected by the action.

Legal Deadline: An indication of whether the rule is subject to a statutory or judicial deadline, the date of that deadline, and whether the deadline pertains to a Notice of Proposed Rulemaking, a Final Action, or some other action.

Abstract: A brief description of the problem the action will address.

Timetable: The dates and citations (if available) for all past steps and a projected date for at least the next step for the regulatory action. A date displayed in the form “10/00/16” means the agency is predicting the month and year the action will take place but not the day it will occur. For some entries, the timetable indicates that the date of the next action is “to be determined.”

Regulatory Flexibility Analysis Required: Indicates whether EPA has prepared or anticipates that it will be preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments or small nonprofit organizations.

Government Levels Affected: Indicates whether the rule may have any effect on levels of government and, if so, whether the governments are State, local, tribal, or Federal.

Federalism Implications: Indicates whether the action is expected to have substantial direct effects on the States, on the relationship between the National Government and the States, or on the distribution of power and responsibilities among the various levels of government.

Energy Impacts: Indicates whether the action is a significant energy action under EO 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address, if available, of a person who is knowledgeable about the regulation.

Additional Information: Other information about the action including docket information.

URLs: For some actions, the Internet addresses are included for reading copies of rulemaking documents, submitting comments on proposals, and getting more information about the rulemaking and the program of which it is a part. (Note: To submit comments on proposals, go to the associated electronic docket, which is housed at www.regulations.gov. Once there, follow the online instructions to access the docket in question and submit comments. A docket identification [ID] number will assist in the search for materials.)

RIN: The Regulation Identifier Number is used by OMB to identify and track rulemakings. The first four digits of the RIN identify the EPA office with lead responsibility for developing the action.

G. How can you find out about rulemakings that start up after the Regulatory Agenda is signed?

EPA posts monthly information of new rulemakings that the Agency's senior managers have developed. You can find the current list, known as the Action Initiation List; at http://www2.epa.gov/laws-regulations/actions-initiated-month where you will also find information about how to get receive notification when a new list is posted.

H. What tools are available for mining Regulatory Agenda data and for finding more about EPA rules and policies?

1. The http://www.reginfo.gov Searchable Database

The Regulatory Information Service Center and Office of Information and Regulatory Affairs have a Federal regulatory dashboard that allows users to view the Regulatory Agenda database (http://www.reginfo.gov/public/do/eAgendaMain), which includes search, display, and data transmission options.

2. Subject Matter EPA Web Sites

Some actions listed in the Agenda include a URL that provides additional information about the action.

3. Public Dockets

When EPA publishes either an Advance Notice of Proposed Rulemaking (ANPRM) or a Notice of Proposed Rulemaking (NPRM) in the Federal Register, the Agency typically establishes a docket to accumulate materials throughout the development process for that rulemaking. The docket serves as the repository for the collection of documents or information related to a particular Agency action or activity. EPA most commonly uses dockets for rulemaking actions, but dockets may also be used for RFA section 610 reviews of rules with significant economic impacts on a substantial number of small entities and for various non-rulemaking activities, such as Federal Register documents seeking public comments on draft guidance, policy statements, information collection requests under the PRA, and other non-rule activities. Docket information should be in that action's agenda entry. All of EPA's public dockets can be located at www.regulations.gov.

4. EPA's Regulatory Development and Retrospective Review Tracker

EPA's Regulatory Development and Retrospective Review Tracker (www.epa.gov/regdarrt/) serves as a portal to EPA's priority rules, providing you with earlier and more frequently updated information about Agency regulations than is provided by the Regulatory Agenda. It also provides information about retrospective reviews of existing regulations. Not all of EPA's Regulatory Agenda entries appear on Reg DaRRT; only priority rulemakings can be found on this Web site.

I. Reviews of Rules With Significant Impacts on a Substantial Number of Small Entities

Section 610 of the RFA requires that an agency review, within 10 years of promulgation, each rule that has or will have a significant economic impact on a substantial number of small entities. EPA has no 610 reviews at this time. Anticipated future 610 reviews can be viewed at http://www.epa.gov/rfa/section-610.html.

J. What other special attention does EPA give to the impacts of rules on small businesses, small governments, and small nonprofit organizations?

For each of EPA's rulemakings, consideration is given whether there will be any adverse impact on any small entity. EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing RFA/SBREFA, please visit the RFA/SBREFA Web site at http://www.epa.gov/sbrefa/.

K. Thank You for Collaborating With Us

Finally, we would like to thank those of you who choose to join with us in making progress on the complex issues involved in protecting human health and the environment. Collaborative efforts such as EPA's open rulemaking process are a valuable tool for addressing the problems we face, and the regulatory agenda is an important part of that process.

Dated: March 16, 2015.
Shannon Kenny,
Principal Deputy Associate Administrator, Office of Policy.

10—Proposed Rule Stage
Sequence No. | Title | Regulation Identifier No.
211 | Greenhouse Gas Emissions and Fuel Efficiency Standards for Medium- and Heavy-Duty Engines and Vehicles—Phase 2 | 2060-AS16

10—Final Rule Stage
Sequence No. | Title | Regulation Identifier No.
212 | NESHAP for Brick and Structural Clay Products Manufacturing and NESHAP for Clay Ceramics Manufacturing | 2060-AP69
213 | General Permits and Permits by Rule for the Tribal Minor New Source Review Program | 2060-AR98

10—Completed Actions
Sequence No. | Title | Regulation Identifier No.
214 | Standards of Performance for New Residential Wood Heaters and New Residential Hydronic Heaters and Forced-Air Furnaces | 2060-AP93

35—Final Rule Stage
Sequence No. | Title | Regulation Identifier No.
215 | Formaldehyde Emissions Standards for Composite Wood Products | 2070-AJ92

60—Long-Term Actions
Sequence No. | Title | Regulation Identifier No.
216 | Financial Responsibility Requirements Under CERCLA Section 108(b) for Classes of Facilities in the Hard Rock Mining Industry | 2050-AG61

ENVIRONMENTAL PROTECTION AGENCY (EPA)

10

Proposed Rule Stage

211. Greenhouse Gas Emissions and Fuel Efficiency Standards for Medium- and Heavy-Duty Engines and Vehicles—Phase 2

Legal Authority: 42 U.S.C. 7401 et seq. Clean Air Act

Abstract: During the President's second term, the Environmental Protection Agency (EPA) and the Department of Transportation, in close coordination with the California Air Resources Board, will develop a comprehensive National Program for Medium- and Heavy-Duty Vehicle Greenhouse Gas Emission and Fuel Efficiency Standards for model years beyond 2018. These second sets of standards would further reduce greenhouse gas emissions and fuel consumption from a wide range of on-road vehicles from semi-trucks to the largest pickup trucks and vans, and all types and sizes of work trucks and buses. This action will be in continued response to the President's directive to take coordinated steps to produce a new generation of clean vehicles. This action follows the first ever Greenhouse Gas Emissions Standards and Fuel Efficiency Standards for Medium- and Heavy-Duty Engines and Vehicles (75 FR September 15, 2011).

Timetable:

Action | Date | FR Cite
NPRM | 06/00/15
Final Rule | 01/00/17

Regulatory Flexibility Analysis Required: Yes.

Agency Contact: Matt Spears, Environmental Protection Agency, Air and Radiation, Mail Code: ASD1, Ann Arbor, MI 48105, Phone: 734 214-4921, Fax: 734 214-4816, Email: spears.mattew@epa.gov.

Charles Moulis, Environmental Protection Agency, Air and Radiation, NFEVL, Ann Arbor, MI 48105, Phone: 734 214-4826.

RIN: 2060-AS16

ENVIRONMENTAL PROTECTION AGENCY (EPA)

10

Final Rule Stage

212. NESHAP for Brick and Structural Clay Products Manufacturing and NESHAP for Clay Ceramics Manufacturing

Legal Authority: 42 U.S.C. 7401 et seq.et seq. Clean Air Act

Abstract: This final rulemaking will establish emission limits for hazardous air pollutants (hydrogen flouride (HF), hydrogen chloride (HCl), chlorine (Cl2), PM, dioxin/furan, Hg and metals) emitted from brick and clay ceramics kilns, as well as dryers and glazing operations at clay ceramics production facilities. The brick and structural clay products industry primarily includes facilities that manufacture brick, clay, pipe, roof tile, extruded floor and wall tile, and other extruded dimensional clay products from clay, shale, or a combination of the two. The manufacturing of brick and structural clay products involves mining, raw material processing (crushing, grinding, and screening), mixing, forming, cutting or shaping, drying, and firing. Ceramics are defined as a class of inorganic, nonmetallic solids that are subject to high temperature in manufacture and/or use. The clay ceramics manufacturing source category includes facilities that manufacture traditional ceramics, which include ceramic tile, dinnerware, sanitary ware, pottery, and porcelain. The primary raw material used in the manufacture of these traditional ceramics is clay. The manufacturing of clay ceramics involves raw material processing (crushing, grinding, and screening), mixing, forming, shaping, drying, glazing, and firing.

Timetable:

Action | Date | FR Cite
NPRM | 12/18/14 | 79 FR 75621
NPRM Comment Period Extended | 12/31/14 | 79 FR 78768
Final Rule | 10/00/15

Regulatory Flexibility Analysis Required: Yes.

Agency Contact: Sharon Nizich, Environmental Protection Agency, Air and Radiation, D243, Research Triangle Park, NC 27711, Phone: 919 541-2825, Fax: 919 541-5450, Email: nizich.sharon@epamail.epa.gov.

Keith Barnett, Environmental Protection Agency, Air and Radiation, D243-04, Research Triangle Park, NC 27711, Phone: 919 541-5605, Fax: 919 541-5450, Email: barnett.keith@epa.gov.

RIN: 2060-AP69

213. General Permits and Permits by Rule for the Tribal Minor New Source Review Program

Legal Authority: 42 U.S.C. 7401 et seq. Clean Air Act

Abstract: The Tribal Minor New Source Review (NSR) program applies to new and modified minor sources and minor modifications at major sources of air pollution in Indian Country. The program, established in 2011, is implemented through issuance of preconstruction permits that can include, among other requirements, pollutant emission limits for minor sources and emission limitations on the potential of sources to emit pollution that would otherwise be considered major sources. This minor source program for Indian Country is similar to State minor NSR programs. State minor NSR programs often use general permits, and a few State programs allow permits by rule as streamlined permitting approaches for similar emission units or stationary sources. This action finalizes general permits and permits by rule for certain source categories of minor sources wishing to locate in Indian Country. This action finalizes general permits for the following five source categories: boilers, spark ignition engines, compression ignition engines, concrete batch plants, and sawmills. This action finalizes a general permit (and a permit by rule in the alternative) for graphic arts and printing operations.

Timetable:

Action | Date | FR Cite
NPRM | 07/17/14 | 79 FR 41845
NPRM Comment Period Extended | 08/19/14 | 79 FR 49031
Final Rule | 06/00/15

Regulatory Flexibility Analysis Required: Yes.

Agency Contact: Chris Stoneman, Environmental Protection Agency, Air and Radiation, C304-01, Research Triangle Park, NC 27711, Phone: 919 541-0823, Fax: 919 541-0072, Email: stoneman.chris@epa.gov.

Mark Sendzik, Environmental Protection Agency, Air and Radiation, C-304.03, Research Triangle Park, NC 27711, Phone: 919 541-5534, Fax: 919 541-0942, Email: sendzik.mark@epa.gov.

RIN: 2060-AR98

ENVIRONMENTAL PROTECTION AGENCY (EPA)

10

Completed Actions

214. Standards of Performance for New Residential Wood Heaters and New Residential Hydronic Heaters and Forced-Air Furnaces

Legal Authority: 42 U.S.C. 7401 et seq.

Abstract: On February 3, 2015, EPA signed a final rule that made revisions to the New Source Performance Standards (NSPS) for new residential wood heaters. This action updates the 1988 NSPS to reflect significant advancements in wood heater technologies and design, broadens the range of residential wood-heating appliances covered by the regulation, and improves and streamlines implementation procedures. This rule requires manufacturers to redesign wood heaters to be cleaner and lower emitting. In general, the design changes would also make the heaters perform better and be more efficient. The revisions will streamline the process for testing new model lines by allowing the use of International Standards Organization (ISO)-accredited laboratories and certifying bodies, which will expand the number of facilities that can be used for testing and certification of the new model lines. This action includes the following new residential wood-heating appliances: adjustable burn rate wood heaters, pellet stoves, single burn rate wood heaters, outdoor hydronic heaters (outdoor wood boilers), indoor hydronic heaters (indoor wood boilers), wood-fired forced air furnaces, and masonry heaters. These standards apply only to new residential wood heaters and not to existing residential wood-heating appliances.

Timetable:

Action | Date | FR Cite
NPRM | 02/03/14 | 79 FR 6329
Notice | 07/01/14 | 79 FR 37259
Final Rule | 03/16/15 | 80 FR 13671
Final Action Effective | 05/15/15

Regulatory Flexibility Analysis Required: Yes.

Agency Contact: Gil Wood, Environmental Protection Agency, Air and Radiation, C404-05, Research Triangle Park, NC 27711, Phone: 919 541-5272, Fax: 919 541-0242, Email: wood.gil@epa.gov.

David Cole, Environmental Protection Agency, Air and Radiation, C404-05, Research Triangle Park, NC 27711, Phone: 919 541-5565, Fax: 919 541-0242, Email: cole.david@epa.gov.

RIN: 2060-AP93

ENVIRONMENTAL PROTECTION AGENCY (EPA)

35

Final Rule Stage

215. Formaldehyde Emissions Standards for Composite Wood Products

Legal Authority: 15 U.S.C. 2697 Toxic Substances Control Act

Abstract: The EPA is developing a final rule under the Formaldehyde Standards for Composite Wood Products Act that was enacted in 2010 as title VI of Toxic Substances Control Act (TSCA), 15 U.S.C. 2697, and requires that the EPA promulgate implementing regulations to establish specific formaldehyde emission limits for hardwood plywood, particleboard, and medium-density fiberboard, which limits are identical to the California emission limits for these products. In 2013, the EPA proposed regulations to implement emissions standards established by TSCA title VI for composite wood products sold, supplied, offered for sale, or manufactured in the United States. Pursuant to TSCA section 3(7), the definition of “manufacture” includes import. As required by title VI, these regulations apply to hardwood plywood, medium-density fiberboard, and particleboard. TSCA title VI also directs EPA to promulgate supplementary provisions to ensure compliance with the emissions standards, including provisions related to labeling; chain of custody requirements; sell-through provisions; ULEF resins; no-added formaldehyde-based resins; finished goods; third-party testing and certification; auditing and reporting of third-party certifiers; recordkeeping; enforcement; laminated products; and exceptions from the requirements of regulations promulgated pursuant to this subsection for products and components containing de minimis amounts of composite wood products. A separate Regulatory Agenda entry (RIN 2070-AJ44) addresses requirements for accrediting bodies and third-party certifiers. EPA may decide to issue a single final rule to promulgate the final requirements related to both proposed rules.

Timetable:

Action | Date | FR Cite
NPRM | 06/10/13 | 78 FR 34820
NPRM Comment Period Extended | 07/23/13 | 78 FR 44089
NPRM Comment Period Extended | 08/21/13 | 78 FR 51695
Notice | 04/08/14 | 79 FR 19305
NPRM Comment Period Extended | 05/09/14 | 79 FR 26678
Final Rule | 11/00/15

Regulatory Flexibility Analysis Required: Yes.

Agency Contact: Cindy Wheeler, Environmental Protection Agency, Office of Chemical Safety and Pollution Prevention, 7404T, Washington, DC 20460, Phone: 202 566-0484, Email: wheeler.cindy@epa.gov.

Lynn Vendinello, Environmental Protection Agency, Office of Chemical Safety and Pollution Prevention, 7404T, Washington, DC 20460, Phone: 202 566-0514, Fax: 202 564-0473, Email: vendinello.lynn@epa.gov.

RIN: 2070-AJ92

ENVIRONMENTAL PROTECTION AGENCY (EPA)

60

Long-Term Actions

216. Financial Responsibility Requirements Under CERCLA Section 108(B) for Classes of Facilities in the Hard Rock Mining Industry

Legal Authority: 42 U.S.C. 9601; 42 U.S.C. 9608(b)

Abstract: Section 108(b) of the Comprehensive Environmental Response, Compensation, and Liability Act (CERCLA) of 1980, as amended, establishes certain authorities concerning financial responsibility requirements. The Agency has identified classes of facilities within the hard rock mining industry as those for which financial responsibility requirements will be first developed. EPA intends to include requirements for financial responsibility, as well as notification and implementation.

Timetable:

Action | Date | FR Cite
Notice | 07/28/09 | 74 FR 37213
NPRM | 08/00/16

Regulatory Flexibility Analysis Required: Yes.

Agency Contact: Ben Lesser, Environmental Protection Agency, Solid Waste and Emergency Response, 5302P, Washington, DC 20460, Phone: 703 308-0314, Email: lesser.ben@epa.gov.

Barbara Foster, Environmental Protection Agency, Solid Waste and Emergency Response, 5304P, Washington, DC 20460, Phone: 703 308-7057, Email: foster.barbara@epamail.epa.gov.

RIN: 2050-AG61

[FR Doc. 2015-14368 Filed 6-17-15; 8:45 am]

BILLING CODE 6560-50-P